SURFACE TRANSPORTATION BOARD

30-Day Notice of Intent To Seek Extension of Approval for Information Collection: Rail Service Data

AGENCY: Surface Transportation Board.

ACTION: Notice and request for comments.

SUMMARY: As required by the Paperwork Reduction Act of 1995 (PRA), the Surface Transportation Board (STB or Board) gives notice of its intent to seek approval from the Office of Management and Budget (OMB) for an extension of the information collection of Rail Service Data, as described below. The Board previously published a notice about this collection in the Federal Register. That notice allowed for a 60-day public review and comment period. No comments were received.

DATES: The comment period for the notice published September 2, 2020, at 85 FR 54614, is extended. Comments on this information collection should be submitted by December 3, 2020.

ADDRESSES: Written comments should be identified as “Paperwork Reduction Act Comments, Rail Service Data.” These comments should be directed to the Office of Management and Budget, Office of Information and Regulatory Affairs, Attention: Michael J. McManus, Surface Transportation Board Desk Officer: by email at oira_submission@omb.eop.gov; by fax at (202) 395-1743; or by mail to Room 10235, 725 17th Street NW, Washington, DC 20503. Please also direct comments to Chris Oehrle, PRA Officer, Surface Transportation Board, at PRA@stb.gov. For further information regarding this collection, contact Michael Higgins, Deputy Director, Office of Public Assistance, Governmental Affairs, and Compliance at (202) 245-0284 and at Michael.Higgins@stb.gov. Assistance for the hearing impaired is available through the Federal Relay Service at (800) 877-8339.

SUPPLEMENTARY INFORMATION: Comments are requested concerning: (1) The accuracy of the Board's burden estimates; (2) ways to enhance the quality, utility, and clarity of the information collected; (3) ways to minimize the burden of the collection of information on the respondents, including the use of automated collection techniques or other forms of information technology, when appropriate; and (4) whether the collection of information is necessary for the proper performance of the functions of the Board, including whether the collection has practical utility. Submitted comments will be summarized and included in the Board's request for OMB approval.

Description of Collection

Title: Rail Service Data Collection.

OMB Control Number: 2140-0033.

STB Form Number: None.

Type of Review: Extension without change.

Respondents: Class I railroads (on behalf of themselves and the Chicago Transportation Coordination Office (“CTCO”)).

Number of Respondents: Seven.

Estimated Time per Response: The collection seeks three related responses, as indicated in the table below.

Table—Estimated Time per Response
Type of responses | Estimated time per response (hours)
Weekly | 1.5
Quarterly | 1.5
On occasion | 1.5

Frequency: The frequencies of the collection are set forth in the table below.

Table—Frequency of Responses
Type of responses | Frequency of responses (year)
Weekly | 52
Quarterly | 4
On occasion | 2

Total Burden Hours (annually including all respondents): The total annual burden hours are estimated to be no more than 591 hours per year, as indicated in the table below.

Table—Total Burden Hours
[per year]
Type of responses | Number of respondents | Estimated time per response (hours) | Frequency of responses (year) | Total yearly burden hours
Weekly | 7 | 1.5 | 52 | 546
Quarterly | 7 | 1.5 | 4 | 42
On occasion | 1 | 1.5 | 2 | 3
Total |  |  |  | 591

Total “Non-hour Burden” Cost: There are no other costs identified because filings are submitted electronically to the Board.

Needs and Uses: Under 49 CFR Part 1250, the Board requires the nation's seven Class I (large) railroads and the Chicago Transportation Coordination Office (CTCO), through its Class I members, to report certain railroad service performance metrics on a weekly basis and certain other information on a quarterly and occasional basis. This collection of rail service data aids the Board in identifying rail service issues, allowing the Board to better understand current service issues and to identify and address potential future regional and national service disruptions more quickly. The transparency resulting from this collection also benefits rail shippers and other stakeholders by helping them to better plan operations and make informed decisions based on publicly available, near real-time data and their own analysis of performance trends over time.

Under the PRA, a federal agency that conducts or sponsors a collection of information must display a currently valid OMB control number. A collection of information, which is defined in 44 U.S.C. 3502(3) and 5 CFR 1320.3(c), includes agency requirements that persons submit reports, keep records, or provide information to the agency, third parties, or the public. Section 3507(b) of the PRA requires, concurrent with an agency's submitting a collection to OMB for approval, a 30-day notice and comment period through publication in the Federal Register concerning each proposed collection of information, including each proposed extension of an existing collection of information.

Dated: October 29, 2020.
Tammy Lowery,
Clearance Clerk.

[FR Doc. 2020-24340 Filed 11-2-20; 8:45 am]

BILLING CODE 4915-01-P